ENVIRONMENTAL PROTECTION AGENCY

[ER-FRL-6623-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated May 18, 2001 (66 FR 27164).

Draft EISs

ERP No. D-AFS-J65351-MT Rating EC2, Beaverhead-DeerLodge National Forest, Noxious Weed Control Program, Implementation, Integrated Weed Management, Dillon County, MT.

Summary: EPA expressed environmental concerns regarding the potential for herbicide transport to surface and ground waters. EPA requested additional information on site-specific identification of weed species and weed coverage, application rates for herbicide treatments and herbicide transport and leaching potential. EPA recommended monitoring for herbicides in sensitive waters, a 300 foot buffer width for streams and flagging during aerial herbicide application.

ERP No. D-DOE-L08057-OR Rating LO, Umatilla Generating Project, Construction and Operation, Gas-Fired Combined Cycle Electric Power Generation Plant, Nominal Generation Capacity of 550 megawatts (MW) Connection to the Regional Grid at McNary Substation, Umatilla County, AZ.

Summary: EPA used a screening tool to conduct a limited review of the draft EIS and, based upon the screen, EPA does not foresee having any environmental objections to the project. Consequently, a detailed review of the draft EIS was not conducted.

ERP No. D-FRC-K05057-CA Rating EC2, Big Creek No. 4 Hydroelectric Project, Issuing New License, (FERC Project No. 2017), San Joaquin River Basin, Sierra National Forest, Fresno, Madera and Tulare Counties, CA.

Summary: EPA identified environmental concerns with the analysis, including segmenting the analysis of different projects and an insufficient range of alternatives. EPA recommended that the analysis of the Big Creek #4 Project be incorporated into the ongoing basin-wide analysis of the Big Creek System.

Final EISs

ERP No. F-AFS-J67022-MT, Asarco Rock Creek Copper and Silver Mining Construction and Operation Project, Plan of Operations Approval, Special Use Permit(s), Road Use Permit, Mineral Material Permit, Timber Sale Contract and COE Section 404 Permit Issuance, Kootenai National Forest, Sanders County, MT.

Summary: EPA expressed environmental concerns about the potential for elevated metals, particularly copper, to occur in mine drainage/seepage. EPA recommended that cement be added to the paste tailings as a mitigation measure and requested participation on post-EIS technical panels as well as adequate public disclosure and review of audit test results, paste tailings deposit design and environmental decisions.

ERP No. F-AFS-L65346-ID, Middle Fork Weiser River Watershed Project, Implementation of Vegetation Restoration, Landscape Fire Pattern and Watershed Restoration Objectives, Payette National Forest, Council Ranger District, Adams County, ID.

Summary: The final EIS fully responded to EPA's comments on the draft EIS and EPA has no objections to the action as proposed.

ERP No. F-BOP-E81039-00, Criminal Alien Requirement (CAR) II, To Contract for a Private Contractor-Owned/Contractor-Operated Correctional Facility in Florida, Mississippi, Georgia and Alabama to House Adult-Male and Non-US Citizen, AL, FL, GA and/or MS.

Summary: EPA expressed no environmental objection to the proposed project.

ERP No. F-GSA-D81032-MD, Suitland Federal Center, Construction and Operation of a 226-acre Federal Employment Center, Programmatic Development Plan and Phase I Implementation, Prince George's County, MD.

Summary: EPA has determined that the General Services Administration has adequately addressed its comments within the FEIS.

ERP No. F-IBR-L36114-WA, Keechelus Dam Project, Safety of Dams Modification, Implementation, COE Section 404 Permit, Yakima, Kittitas, Benton, and Klickitat Counties, WA.

Summary: EPA raised environmental concerns that the final EIS did not include or analyze dam building/reconstruction alternatives that incorporate fish passage as a project alternative that should be evaluated.

ERP No. FB-COE-E32022-NC, Manteo (Shallowbay) Bay Project, Enlarging and Deepening Basin at Wanchese, Dare County, NC.

Summary: EPA continues to have environmental objections to this proposal based on our concerns about its potential long-term impacts on a regionally important commercial fishery resource, the difficulties associated with the construction and operation of the jetty system, especially its sand bypassing component, and the uncertainties regarding both the need for the project and its assumed economic benefits. EPA believes that the project would result in significant environmental impacts that should be avoided in order to ensure adequate protection of the environment.

Dated: November 6, 2001.
Joseph C Montgomery,
Director, NEPA Compliance Division, Office of Federal Activities.

[FR Doc. 01-28218 Filed 11-8-01; 8:45 am]

BILLING CODE 6560-50-U